DEPARTMENT OF ENERGY

Federal Energy Regulatory Commission

Combined Notice of Filings #2

Take notice that the Commission received the following electric rate filings:

Docket Numbers: ER11-3643-000.

Applicants: PacifiCorp.

Description: eTariff filing per 35.19a(b): Refund Report (Surcharge: Prelim Challenges to 2013 Rate Update) to be effective N/A.

Filed Date: 10/29/14.

Accession Number: 20141029-5088.

Comments Due: 5 p.m. ET 11/19/14.

Docket Numbers: ER14-2403-001.

Applicants: PacifiCorp.

Description: Compliance filing per 35: OATT Revisions to Part V Small Gen IC Agmts & Procedures (Order 792) Revisions to be effective 7/11/2014.

Filed Date: 10/29/14.

Accession Number: 20141029-5087.

Comments Due: 5 p.m. ET 11/19/14.

Docket Numbers: ER14-2592-001.

Applicants: Alcoa Power Generating Inc.

Description: Compliance filing per 35: Additional Changes to Pending Order No. 792 Compliance Filing to be effective 8/5/2014.

Filed Date: 10/29/14.

Accession Number: 20141029-5051.

Comments Due: 5 p.m. ET 11/19/14.

Docket Numbers: ER15-213-000.

Applicants: PJM Interconnection, L.L.C.

Description: Tariff Withdrawal per 35.15: Notice of Cancellation of Service Agreement No. 3674; Queue No. V4-023 to be effective 11/29/2014.

Filed Date: 10/29/14.

Accession Number: 20141029-5069.

Comments Due: 5 p.m. ET 11/19/14.

Docket Numbers: ER15-214-000.

Applicants: PJM Interconnection, L.L.C.

Description: § 205(d) rate filing per 35.13(a)(2)(iii): Original Service Agreement No. 3990; Queue W1-130 to be effective 10/1/2014.

Filed Date: 10/29/14.

Accession Number: 20141029-5072.

Comments Due: 5 p.m. ET 11/19/14.

Docket Numbers: ER15-215-000.

Applicants: PJM Interconnection, L.L.C.

Description: Tariff Withdrawal per 35.15: Notice of Cancellation of Service Agreement No. 3675; Queue No. V4-023 to be effective 11/29/2014.

Filed Date: 10/29/14.

Accession Number: 20141029-5073.

Comments Due: 5 p.m. ET 11/19/14.

Docket Numbers: ER15-216-000.

Applicants: Southern California Edison Company.

Description: § 205(d) rate filing per 35.13(a)(1): 2015 RSBAA Update Filing to be effective 1/1/2015.

Filed Date: 10/29/14.

Accession Number: 20141029-5076.

Comments Due: 5 p.m. ET 11/19/14.

Docket Numbers: ER15-217-000.

Applicants: Florida Power & Light Company.

Description: § 205(d) rate filing per 35.13(a)(2)(iii): FPL and City of Winter Park, Florida NITSA and NOA Service Agreement No. 328 to be effective 1/1/2015.

Filed Date: 10/29/14.

Accession Number: 20141029-5084.

Comments Due: 5 p.m. ET 11/19/14.

Docket Numbers: ER15-218-000.

Applicants: PJM Interconnection, L.L.C.

Description: Tariff Withdrawal per 35.15: Notice of Cancellation of Service Agreement No. 3065; Queue No. W3-146 to be effective 4/2/2012.

Filed Date: 10/29/14.

Accession Number: 20141029-5104.

Comments Due: 5 p.m. ET 11/19/14.

Docket Numbers: ER15-219-000.

Applicants: California Power Exchange Corporation.

Description: § 205(d) rate filing per 35.13(a)(2)(iii): Rate Filing for Rate Period 26 to be effective 1/1/2015.

Filed Date: 10/29/14.

Accession Number: 20141029-5116.

Comments Due: 5 p.m. ET 11/19/14.

Docket Numbers: ER15-220-000.

Applicants: PJM Interconnection, L.L.C.

Description: Tariff Withdrawal per 35.15: Notice of Cancellation of Service Agreement No. 3277; Queue No. W3-146 to be effective 12/13/2014.

Filed Date: 10/29/14.

Accession Number: 20141029-5117.

Comments Due: 5 p.m. ET 11/19/14.

Docket Numbers: ER15-221-000.

Applicants: Puget Sound Energy, Inc.

Description: Initial rate filing per 35.12 West Coast Products LLC SA No. 711, 712 & 713 to be effective 10/1/2014.

Filed Date: 10/29/14.

Accession Number: 20141029-5121.

Comments Due: 5 p.m. ET 11/19/14.

Docket Numbers: ER15-222-000.

Applicants: Erie Wind, LLC.

Description: Baseline eTariff Filing per 35.1: Filing of Tenant in Common Agreement and Shared Facilities Agreement to be effective 12/29/2014.

Filed Date: 10/29/14.

Accession Number: 20141029-5122.

Comments Due: 5 p.m. ET 11/19/14.

Docket Numbers: ER15-223-000.

Applicants: Pacific Gas and Electric Company.

Description: Tariff Withdrawal per 35.15: Notice of Termination of the Comprehensive Agreement between PG&E and CDWR to be effective 12/31/2014.

Filed Date: 10/29/14.

Accession Number: 20141029-5123.

Comments Due: 5 p.m. ET 11/19/14.

Docket Numbers: ER15-224-000.

Applicants: Niagara Wind Power, LLC.

Description: § 205(d) rate filing per 35.13(a)(2)(iii): Filing of Tenant in Common Agreement and Shared Facilities Agreement to be effective 12/29/2014.

Filed Date: 10/29/14.

Accession Number: 20141029-5124.

Comments Due: 5 p.m. ET 11/19/14.

Docket Numbers: ER15-225-000.

Applicants: Niagara Wind Power, LLC.

Description: Initial rate filing per 35.12 Filing of Rate Schedule under FPA Section 205 to be effective 12/29/2014.

Filed Date: 10/29/14.

Accession Number: 20141029-5129.

Comments Due: 5 p.m. ET 11/19/14.

Docket Numbers: ER15-226-000.

Applicants: Erie Wind, LLC.

Description: Initial rate filing per 35.12 Filing of Rate Schedule under FPA Section 205 to be effective 12/29/2014.

Filed Date: 10/29/14.

Accession Number: 20141029-5140.

Comments Due: 5 p.m. ET 11/19/14.

Docket Numbers: ER15-227-000.

Applicants: Pacific Gas and Electric Company.

Description: § 205(d) rate filing per 35.13(a)(2)(iii): Load and Generator Interconnection Agreements between PG&E and CDWR to be effective 1/1/2015.

Filed Date: 10/29/14.

Accession Number: 20141029-5145.

Comments Due: 5 p.m. ET 11/19/14.

Docket Numbers: ER15-227-001.

Applicants: Pacific Gas and Electric Company.

Description: Tariff Amendment per 35.17(b): First Amendment to the CDWR Load and Generator Interconnection Agreement Filing to be effective 1/1/2015.

Filed Date: 10/29/14.

Accession Number: 20141029-5150.

Comments Due: 5 p.m. ET 11/19/14.

Docket Numbers: ER15-228-000.

Applicants: Southwest Power Pool, Inc.

Description: § 205(d) rate filing per 35.13(a)(2)(iii): Substitute Original 2880 Rattlesnake Creek Wind Project GIA to be effective 4/9/2014.

Filed Date: 10/29/14.

Accession Number: 20141029-5146.

Comments Due: 5 p.m. ET 11/19/14.

Docket Numbers: ER15-229-000.

Applicants: The Empire District Electric Company.

Description: § 205(d) rate filing per 35.13(a)(2)(iii): Revised GFR Template to be effective 11/1/2014.

Filed Date: 10/29/14.

Accession Number: 20141029-5151.

Comments Due: 5 p.m. ET 11/19/14.

Take notice that the Commission received the following foreign utility company status filings:

Docket Numbers: FC15-1-000.

Applicants: Diageo USVI Inc.

Description: Self-Certification of Diageo USVI Inc. as foreign utility company.

Filed Date: 10/29/14.

Accession Number: 20141029-5065.

Comments Due: 5 p.m. ET 11/19/14.

Take notice that the Commission received the following land acquisition reports:

Docket Numbers: LA14-3-000.

Applicants: Blue Canyon Windpower LLC, Blue Canyon Windpower II LLC, Blue Canyon Windpower V LLC, Blue Canyon Windpower VI LLC, Cloud County Wind Farm, LLC, High Prairie Wind Farm II, LLC, Lost Lakes Wind Farm LLC, Pioneer Prairie Wind Farm I LLC, Rail Splitter Wind Farm, LLC, Sustaining Power Solutions LLC.

Description: Quarterly Land Acquisition Report of Windpower LLC, et. al.

Filed Date: 10/29/14.

Accession Number: 20141029-5083.

Comments Due: 5 p.m. ET 11/19/14.

Take notice that the Commission received the following electric reliability filings:

Docket Numbers: RR14-7-000.

Applicants: North American Electric Reliability Corporation.

Description: Errata to September 15, 2014 Petition of the North American Electric Reliability Corporation for Approval of Amendments to Regional Reliability Standards Development Procedure of the Northeast Power Coordinating Council, Inc.

Filed Date: 10/28/14.

Accession Number: 20141028-5181.

Comments Due: 5 p.m. ET 11/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2014.
Nathaniel J. Davis, Sr.,
Deputy Secretary.

[FR Doc. 2014-26262 Filed 11-4-14; 8:45 am]

BILLING CODE 6717-01-P